DEPARTMENT OF TRANSPORTATION

Federal Aviation Administration

14 CFR Part 73

[Docket No. FAA-2020-1053; Airspace Docket No. 20-ANM-32]

RIN 2120-AA66

Proposed Amendment of Restricted Area R-7001C and Establishment of Restricted Areas R-7001D, R-7002A, R-7002B, and R-7002C; Guernsey, WY

AGENCY: Federal Aviation Administration (FAA), DOT.

ACTION: Notice of proposed rulemaking (NPRM).

SUMMARY: This action proposes to amend restricted area R-7001C and establish three restricted areas, R-7001D, R-7002A, R-7002B, and R-7002C at Guernsey, WY. The Wyoming Army National Guard (WYARNG) requested the establishment of the new restricted areas to support its air-to-ground firing from helicopters and longer range artillery training. This additional airspace allows for the segregation of hazardous activities from non-participating air traffic. The FAA is also proposing to amend R-7001C to correct an inadvertent error to ensure proper vertical separation.

DATES: Comments must be received on or before April 19, 2021.

ADDRESSES: Send comments on this proposal to the U.S. Department of Transportation, Docket Operations, 1200 New Jersey Avenue SE, West Building Ground Floor, Room W12-140, Washington, DC 20590-0001; telephone: 1 (800) 647-5527, or (202) 366-9826. You must identify FAA Docket Number FAA-2020-0153; Airspace Docket No. 20-ANM-32 at the beginning of your comments. You may also submit comments through the internet at https://www.regulations.gov.

FOR FURTHER INFORMATION CONTACT: Christopher McMullin, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code (U.S.C.). Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would amend and establish restricted area airspace at Guernsey, WY, to contain activities deemed hazardous to nonparticipating aircraft.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket Number FAA-2020-0153; Airspace Docket No. 20-ANM-32) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket FAA-2020-0153; Airspace Docket No. 20-ANM-32.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRM's

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Western Service Center, Operations Support Group, Federal Aviation Administration, 2200 South 216th St., Des Moines, WA 98198.

Background

In a final rule published on February 14, 1962, the FAA established restricted area R-7001 (27 FR 1355) at Guernsey, WY, in order to provide special use airspace for the hazardous artillery firing conducted by Army National Guard (Army) units during its annual summer training periods. Since R-7001 was established, the Army's activities and technologies have changed, requiring amendments to R-7001 and the establishment of new restricted areas to ensure non-participating aircraft are protected from hazardous activity in the National Airspace System (NAS). Currently, the restricted areas at Guernsey, WY, are designated as R-7001A, R-7001B, and R-7001C. In August 1979, the FAA divided R-7001 vertically into R-7001A and R-7001B (44 FR 34114; June 14, 1979) to provide greater flexibility for military training and divide the airspace vertically to allow non-participating aircraft access to unused portions of the airspace, when not in use. The FAA established R-7001C in February 1985 (50 FR 6156; February 14, 1985) to protect the NAS from the high angle fire of various weapons and permit maximum firing capability of these weapons.

In order to address the advances in weapons systems capabilities and provide the United States Army the ability to conduct longer range artillery training, several Controlled Firing Areas (CFA) were established for use in the same location as R-7002A, R-7002 B, and R-7002C. The current configuration of restricted areas and CFAs can no longer support the full capability of the artillery in part, due to the operational limitations of the CFAs. Camp Guernsey Joint Training Center hosts several exercises throughout the year. During these exercises, 155mm artillery, M270 Multiple Launch Rocket System (MLRS), and M142 High Mobility Artillery Rocket System (HIMARS) are fired. Additionally, Guernsey, WY is the closest restricted area complex to F.E. Warren Air Force Base, WY. The development of these new restricted areas would accommodate the United States Air Force's activities and provide for its ability to train locally for air-to-ground firing from helicopters, and the associated Weapon Danger Zones (WDZ).

Finally, while conducting the evaluation of the restricted areas at Guernsey, WY, the FAA noted that R-7001B and R-7001C were inadvertently overlapping airspace. The ceiling of R-7001B stops at 23,500 feet mean sea level (MSL) and the floor of R-7001C starts at 23,500 feet MSL. This is an error and the proposed amendment would provide the necessary vertical separation between the two restricted airspace areas.

The Proposal

The FAA is proposing an amendment to Title 14 Code of Federal Regulations (14 CFR) part 73 to amend restricted area R-7001C and establish R-7001D, R-7002A, R-7002B, and R-7002C at Guernsey, WY. The FAA is proposing this action at the request of the WYARNG activities and due to correct an inadvertent error. Full legal descriptions are in the “The Proposed Amendment” section of this NPRM.

The proposed restricted areas are described below.

R-7001C: R-7001C would retain the current boundaries, but the floor of the restricted area would begin at 23,501 feet MSL. No other changes would be made to the legal description.

R-7001D: R-7001D would be established above R-7001C and would have the same boundaries as the existing restricted area. The altitudes would be from 30,001 to 45,000 feet MSL. Operations would be limited to 20 days a year.

R-7002A: R-7002A would be established north of, and sharing its southern boundary with R-7001A, R-7001B, and R-7001C. The altitudes would be from the surface to 23,500 feet MSL. Operations would be limited to 20 days a year.

R-7002B: R-7002B would be established on the southeast border, and sharing its northern boundary with R-7001A, R-7001B, and R-7001C. The altitudes would be from the surface to 23,500 feet MSL. Operations would be limited to 20 days a year.

R-7002C: R-7002C would be established west of, and sharing its eastern border with R-7001A, R-7001B, and R-7001C. The altitudes would be from the surface to 23,500 feet MSL. Operations would be limited to 20 days a year.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.70 Wyoming [Amended]

2. § 73.70 is amended as follows:

* * * * *

R-7001C Guernsey, WY [Amended]

Boundaries: Beginning at lat. 42°27′30″ N, long. 104°52′32″ W; to lat. 42°27′30″ N, long. 104°42′32″ W; to lat. 42°22′30″ N, long. 104°42′32″ W; to lat. 42°20′00″ N, long. 104°52′32″ W; to the point of beginning.

Designated altitudes: 23,501 feet MSL to 30,000 feet MSL.

Time of designation: Intermittent, 24 hours in advance by NOTAM.

Controlling agency: FAA, Denver ARTCC.

Using agency: Adjutant General, State of Wyoming.

R-7001D Guernsey, WY [New]

Boundaries: Beginning at lat. 42°27′30″ N, long. 104°52′32″ W; to lat. 42°27′30″ N, long. 104°42′32″ W; to lat. 42°22′30″ N, long. 104°42′32″ W; to lat. 42°20′00″ N, long. 104°52′32″ W; to the point of beginning.

Designated Altitudes: 30,001 feet MSL to 45,000 feet MSL.

Time of Designation: By NOTAM, at least 24 hours in advance.

Controlling Agency: FAA, Denver ARTCC.

Using Agency: Adjutant General, State of Wyoming.

R-7002A Guernsey, WY [New]

Boundaries: Beginning at lat. 42°27′55″ N, long. 104°52′33″ W; to lat. 42°27′55″ N, long. 104°51′46″ W; to lat. 42°28′21″ N, long. 104°51′45″ W; to lat. 42°28′21″ N, long. 104°48′46″ W; to lat. 42°27′56″ N, long. 104°48′46″ W; to lat. 42°27′55″ N, long. 104°47′28″ W; to lat. 42°27′30″ N, long. 104°46′43″ W; to lat. 42°27′30″ N, long. 104°52′32″ W; to the point of beginning.

Designated Altitudes: Surface to 23,500 feet MSL.

Time of Designation: By NOTAM, at least 24 hours in advance.

Controlling Agency: FAA, Denver ARTCC.

Using Agency: Adjutant General, State of Wyoming.

R-7002B Guernsey, WY [New]

Boundaries: Beginning at lat. 42°22′24″ N, long. 104°42′54″ W; to lat. 42°21′41″ N, long. 104°42′52″ W; to lat. 42°21′11″ N, long. 04°43′17″ W; to lat. 42°21′12″ N, long. 104°47′16″ W; to lat. 42°21′19″ N, long. 104°47′16″ W; to the point of beginning.

Designated Altitudes: Surface to 23,500 feet MSL.

Time of Designation: By NOTAM, at least 24 hours in advance.

Controlling Agency: FAA, Denver ARTCC.

Using Agency: Adjutant General, State of Wyoming.

R-7002C Guernsey, WY [New]

Boundaries: Beginning at lat. 42°27′03″ N; long. 104°53′54″ W; to lat. 42°27′03″ N; long. 104°52′32″ W; to lat. 42°20′00″ N; long. 104°52′32″ W; to lat. 42°20′18″ N; long. 104°51′19″ W; to lat. 42°19′42″ N; long. 104°51′17″ W; to lat. 42°19′43″ N; long. 104°53′03″ W; to lat. 42°20′49″ N; long. 104°54′38″ W; to lat. 42°22′43″ N; long. 104°54′38″ W; to lat. 42°22′48″ N; long. 104°53′22″ W; to lat. 42°23′39″ N; long. 104°53′23″ W; to lat. 42°23′40″ N; long. 104°53′58″ W; to the point of beginning; excluding that airspace 500 feet AGL and below ¼ mile either side of the BNSF railroad.

Designated Altitudes: Surface to 23,500 feet MSL.

Time of Designation: By NOTAM, at least 24 hours in advance.

Controlling Agency: FAA, Denver ARTCC.

Using Agency: Adjutant General, State of Wyoming.

* * * * *

Issued in Washington, DC, on January 11, 2021.
George Gonzalez,
Acting Manager, Rules and Regulations Group.

[FR Doc. 2021-00748 Filed 3-3-21; 8:45 am]

BILLING CODE 4910-13-P